DEPARTMENT OF VETERANS AFFAIRS

Advisory Committee on Structural Safety of Department of Veterans Affairs Facilities, Notice of Meeting

The Department of Veterans Affairs (VA) gives notice under the Federal Advisory Committee Act, 5 U.S.C. app. 2, that a virtual meeting of the Advisory Committee on Structural Safety of Department of Veterans Affairs Facilities will be held on June 2, 2022 starting on 9:00 a.m. Eastern Standard Time (EST) and adjourning at 5:00 p.m. EST. The meeting is open to the public.

The purpose of the Committee is to advise the Secretary of Veterans Affairs on matters of structural safety in the construction and remodeling of VA facilities and to recommend standards for use by VA in the construction and alteration of its facilities.

On June 2, the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be emailed to Donald Myers, Director, Facilities Standards Service, Office of Construction & Facilities Management (003C2B), Department of Veterans Affairs, at donald.myers@va.gov. In the communication, writers must identify themselves and state the organization, association, or person(s) they represent. For any members of the public that wish to attend virtually, they may use the Microsoft Teams link or call in with the phone number and Phone Conference ID below:

https://teams.microsoft.com/l/meetup-join/19%3ameeting_NGViMDdlZjctMzgzNi00YTQyLTllZTgtZWNkOWI1YmMxOGYy%40thread.v2/0?context=%7b%22Tid%22%3a%22e95f1b23-abaf-45ee-821d-b7ab251ab3bf%22%2c%22Oid%22%3a%22d2eb6490-e84d-4737-b9ce-b5664e018fd6%22%7d, or to join by phone (audio only): +1 872-701-0185, Phone Conference ID: 313 515 809#.

Those seeking additional information or wishing to attend should contact Mr. Myers at the email address noted above or by phone at 202-632-5388.

Dated: May 11, 2022.
Jelessa M. Burney,
Federal Advisory Committee Management Officer.

[FR Doc. 2022-10446 Filed 5-13-22; 8:45 am]

BILLING CODE P